SECURITIES AND EXCHANGE COMMISSION

[Release No. 34-79361A; File No. SR-FINRA-2016-043]

Self-Regulatory Organizations; Financial Industry Regulatory Authority, Inc.; Notice of Filing and Immediate Effectiveness of a Proposed Rule Change To Provide a Process for an Expedited Proceeding and Adopt a Rule To Prohibit Disruptive Quoting and Trading Activity

November 21, 2016.

Correction

In FR Document No. 2016-28458 beginning on page 85650 for Monday, November 28, 2016 the 34 Release number was incorrectly stated. The correct number is 34-79361.

Robert W. Errett,
Deputy Secretary.

[FR Doc. 2016-28925 Filed 12-1-16; 8:45 am]

BILLING CODE 8011-01-P